DEPARTMENT OF ENERGY

Federal Energy Regulatory Commission

[Docket Nos. ER07-576-000; ER07-576-001]

Baltimore Gas and Electric Company; Notice of Technical Conference

August 9, 2007.

Take notice that Commission staff will convene a technical conference in the above-referenced proceeding on Wednesday, September 5, 2007, at 10 a.m. (EDT) in Room 3M-2A at the Federal Energy Regulatory Commission, 888 First Street, NE., Washington, DC 20426.

The Commission's July 24, 2007 order¹ in this proceeding directed staff to hold a technical conference to address the issues of whether Baltimore Gas and Electric Company's (BG&E's) proposed Transmission Owner Incentive (TOI) projects are non-routine and thereby satisfy the Commission's nexus requirement between BG&E's proposed 100-basis point return on equity incentive adder and its overall investment in the TOI projects.

¹ Baltimore Gas and Electric Co., 120 FERC ¶ 61,084 (2007) (July 24 Order).

To assist Commission staff and the parties to prepare for the conference, BG&E is directed to file its presentation for the conference on or before August 24, 2007. The presentation should address in detail the issues raised by the Commission in Paragraphs 48-55 and 60-64 of the July 24 Order on routine v. non-routine projects being eligible for transmission rate incentives. All parties will have an opportunity to file written comments to address BG&E's filing after the technical conference at a date to be established at the conference.

Commission conferences are accessible under section 508 of the Rehabilitation Act of 1973. For accessibility accommodations please send an e-mail to accessibility@ferc.gov or call toll free 1-866-208-3372 (voice) or 202-208-1659 (TTY), or send a FAX to 202-208-2106 with the required accommodations.

Kimberly D. Bose,
Secretary.

[FR Doc. E7-16035 Filed 8-15-07; 8:45 am]

BILLING CODE 6717-01-P